DEPARTMENT OF THE INTERIOR

Bureau of Land Management

[CACA 48668; CA-690-07-5101-ER-B240]

Notice of Intent to Prepare a Joint Environmental Impact Statement and Final Staff Assessment, and Amend the California Desert Conservation Area Plan; California

AGENCY: Bureau of Land Management, Interior.

ACTION: Notice of Intent.

SUMMARY: In compliance with the National Environmental Policy Act of 1969 (NEPA), as amended, and the California Environmental Quality Act (CEQA), the Department of the Interior, Bureau of Land Management (BLM), together with the California Energy Commission (CA EC), intend to prepare an Environmental Impact Statement/Final Staff Assessment (EIS/FSA), on the impacts of the Ivanpah Solar Electric Generating System (Ivanpah SEGS), consisting of three concentrating solar-powered steam/electricity generating plants and related facilities, and a proposed land use plan amendment to the 1980 California Desert Conservation Area (CDCA) Plan, as amended. The Ivanpah SEGS is proposed by Solar Partners I, LLC; Solar Partners, II, LLC; Solar Partners IV, LLC; Solar Partners VIII,LLC; collectively the Applicants. The Applicants have requested a right-of-way (ROW) for each of three solar power plants and a ROW for related shared facilities on approximately 3,400 contiguous acres of public lands in San Bernardino County, approximately 4.5 miles southwest of Primm, Nevada. The EIS will analyze the site-specific impacts to the environment from the proposed grant of the ROWs and amend the CDCA Plan to permit this site-specific use of the CDCA. The CA EC is the lead State of California agency for the licensing of thermal power plants over 50 MW and compliance with the requirements of CEQA.

DATES: This notice initiates the public participation and scoping processes for the EIS. A public scoping period of at least 30 days and at least one public meeting will be announced through the local news media, newspapers, and BLM's Web page (http://www.ca.blm.gov/needles). During the public scoping period the BLM will solicit public comment on issues, concerns and opportunities that should be considered in the analysis of the proposed action. The BLM expects to hold at least one public meeting and information about that meeting will be announced through the local news media, newspapers and BLM Web site (http://www.ca.blm.gov/needles) at least 15 days prior to the event. Comments on issues, potential impacts, or suggestions for additional alternatives may also be submitted in writing to the address listed below. In order to be included in the Draft EIS all comments must be received prior to the close of the scoping period or 15 days after the last public meeting, whichever is later. Additional opportunities for public participation and formal comment will occur when the Draft EIS/Preliminary Staff Assessment is issued.

ADDRESSES: Comments and other correspondence should be sent to the BLM Needles Office, attention George R. Meckfessel, Planning and Environmental Coordinator, Needles Field Office, 1303 South U.S. Highway 95, Needles, California, 92363-4228, or by fax at (760) 326-7099 or by e-mail at 690@ca.blm.gov attention Ivanpah SEGS. Documents pertinent to this proposal, including comments of respondents, will be available for public review at the BLM Needles Field Office during regular business hours of 7:30 a.m. to 4 p.m., Monday through Friday, excluding holidays. Before including your address, telephone number, e-mail address, or other personal identifying information in your comment, you should be aware that your entire comment—including your personal identifying information—may be made publicly available at any time. While you can ask us in your comment to withhold your personal identifying information from public review, we cannot guarantee that we will be able to do so. All submissions from organizations, businesses, and from individuals identifying themselves as representatives or officials of organizations or businesses will be made available for public inspection in their entirety.

FOR FURTHER INFORMATION CONTACT: For further information and/or to have your name added to our mailing list, contact George R. Meckfessel, Planning and Environmental Coordinator, Needles Field Office, 1303 South U.S. Highway 95, Needles, California 92363-4228, (760) 326-7008, fax (760) 326-7099, or e-mail George_Meckfessel@ca.blm.gov.

SUPPLEMENTARY INFORMATION: Solar Partners I, LLC, Solar Partners II, LLC, Solar Partners IV, LLC and Solar Partners VIII, LLC have applied for individual ROWs on public lands to develop three solar thermal power plants and related shared facilities in close proximity on approximately 3,400 acres. The proposed projects would be constructed in three phases, as follows, 100 mega-watts (MW) (Ivanpah 1), 100 MW (Ivanpah 2) and 200 MW (Ivanpah 3). The site is located in Townships 16 and 17 North, Range 14 East, San Bernardino Meridian, and is approximately 4.5 miles southwest of Primm, Nevada. It is anticipated that the energy output of the plants will serve California and assist the state in meeting its renewable energy portfolio standards and goals. These concentrating solar plants would utilize distributed power tower and heliostat (mirror) technology, in which heliostat fields focus solar energy on power tower receivers near the center of each heliostat array. The total 400 MW project would incorporate 13 power towers and approximately 272,000 heliostats (each is 7 square meters in size). Each of the three proposed plants would have an individual power block with steam turbine, an air-cooled condenser, switchyard, and a generation tie-line. The three plants would share access roads, two groundwater wells and water lines, an administrative/maintenance complex, a new substation, and a new 5.3 mile natural gas pipeline. The shared facilities would be constructed in the first phase. The plants would be interconnected to the Southern California Edison (SCE) grid by SCE through upgrades to SCE's 115 kV line passing through the site and a new substation. The three plants would take approximately 4 years to construct, and are expected to operate at last 50 years. Construction of the project is anticipated to begin in the first quarter of 2009, with construction being completed in the last quarter of 2012.

BLM will consider approval of the proposed Project in a manner that avoid or reduces impacts to public lands. This action responds to federal law and BLM's policy allowing the use of public lands for renewable energy, specifically section 211 of the Energy Policy Act of 2005 (119 Stat. 594, 660) and BLM's Solar Energy Development Policy, which was issued on April 4, 2007, and established a framework to process applications for ROWs and directs the BLM to be responsive to solar energy project applicants while protecting the environment. The CDCA Plan and the Federal Land Policy Management Act of 1976 (FLPMA) both recognize that the CDCA will be managed for multiple uses, including solar energy.

BLM must take into consideration state law when granting ROWs. Current California state laws and policy require the increased use of renewable energy and established the California Renewable Portfolio Standard Program, under which the percentage of electricity generated by publicly owned utilities in California must increase to 20% by 2010 and 33% by 2017.

The site selection study for the proposed solar plants and related facilities was conducted in 2006-07. Several sites were identified as being suitable for this form of concentrating solar technology. The EIS/FSA will describe and analyze the proposed project as proposed and will include: (1) BLM measures to avoid, minimize, or mitigate impacts on the environment; (2) A smaller plant alternative; (3) The “No Action” alternative (no new solar power generation facility); and (4) Alternative site locations for constructing and operating Ivanpah SEGS. Through public scoping BLM expects to identify various issues, potential impacts and mitigation measures. As proposed, the solar plants have been sited to take advantage of high solarity, to be located in areas identified in the CDCA Plan as suitable for wind and solar development, and to avoid special status species habitat. The plants are dry-cooled to reduce water consumption and would be located near existing gas and electric transmission facilities to reduce land disturbance. BLM has identified a potential list of issues that will need to be addressed in this analysis including but not limited to: Air quality; social and economic impacts, including impacts to the public from traffic; ground and surface water quantity and quality impacts; plant and animal species including special status species; cultural resources; visual resource impacts; and land tenure adjustment (grazing and mining). If approved, these solar energy projects on public lands would be authorized in accordance with the FLMPA and the federal regulations at Title 43 Code of Federal Regulations 2800.

(Authority: 43 CFR part 1712 and 43 CFR Part 1761).

Dated: October 31, 2007.
J. Anthony Danna,
Deputy State Director, Natural Resources (CA-930).

[FR Doc. E7-21762 Filed 11-5-07; 8:45 am]

BILLING CODE 4310-40-P